NATIONAL COUNCIL ON DISABILITY

Sunshine Act Meetings

TIME AND DATE: The Members of the National Council on Disability (NCD) will hold a closed meeting on Thursday, June 15, 2023, 11 a.m.-12 p.m., Eastern Daylight Time (EDT).

PLACE: This meeting will occur via Zoom videoconference.

MATTERS TO BE CONSIDERED: The meeting, closed to the public, will be conducted to discuss internal personnel rules and practices, pursuant to paragraph (c)(2) of the Sunshine Act, and in accordance with a determination made by the NCD Chairman.

CONTACT PERSON FOR MORE INFORMATION: Nicholas Sabula, Public Affairs Specialist, NCD, 1331 F Street NW, Suite 850, Washington, DC 20004; 202-272-2004 (V), or nsabula@ncd.gov.

Dated: June 5, 2023.
Anne C. Sommers McIntosh,
Executive Director.

[FR Doc. 2023-12306 Filed 6-6-23; 11:15 am]

BILLING CODE 8421-02-P